DEPARTMENT OF THE INTERIOR

Bureau of Land Management

[UT-910-00-0777-XQ]

Notice of Meeting of the Utah Resource Advisory Council

AGENCY: Bureau of Land Management, Interior.

SUMMARY: The Bureau of Land Management's Utah Statewide Resource Advisory Council meeting will be held on June 21-22, 2000. On June 21, the Council will focus on recreation issues in northwestern Utah. The RAC will participate in a field tour of the west half of Box Elder County and the northwest corner of Tooele County. Other resources such as minerals, range condition, and fire rehabilitation may be addressed as time allows. They will be departing from the Bureau of Land Management's Salt Lake Field Office, 2370 South 2300 West, Salt Lake City, at 8 a.m. and concluding the tour in Wendover, Nevada.

On June 22, the RAC will continue working on the draft guidelines for recreation management. This meeting will be held in the Silver Room of the Silver Smith Hotel, Wendover, NV, at 8 a.m. and conclude at 4 p.m. with a public comment period scheduled from 3:30-4.

All meetings of the BLM's Resource Advisory Council are open to the public; however, transportation, meals, and overnight accommodations are the responsibility of the participating public.

FOR FURTHER INFORMATION CONTACT: Sherry Foot, Special Programs Coordinator, Utah State Office, Bureau of Land Management, 324 South State Street, Salt Lake City, 84111; phone (801) 539-4195.

Dated: June 2, 2000.
Sally Wisely,
Utah BLM State Director.

[FR Doc. 00-14430 Filed 6-7-00; 8:45 am]

BILLING CODE 4310-$$-M